COMMISSION ON CIVIL RIGHTS

Agenda and Notice of Public Meeting of the Illinois Advisory Committee

Notice is hereby given, pursuant to the provisions of the rules and regulations of the U.S. Commission on Civil Rights, that a community forum of the Illinois Advisory Committee to the Commission will convene at 9 a.m. and recess at 6 p.m. on Monday, June 17, 2002; reconvene on Tuesday, June 18 at 9 a.m. and adjourn at 6 p.m. at the Ralph Metcalfe Federal Building, 77 West Jackson, Room 331, Chicago, Illinois 60604. The purpose of the two-day community forum is to gather information on “Arab and Muslim Civil Rights Issues in the Chicago Metropolitan Area: Post 9/11.”

Persons desiring additional information, or planning a presentation to the Committee, should contact Constance M. Davis, Director of the Midwestern Regional Office, 312-353-8311 (TDD 312-353-8362). Hearing-impaired persons who will attend the meeting and require the services of a sign language interpreter should contact the Regional Office at least ten (10) working days before the scheduled date of the meeting.

The meeting will be conducted pursuant to the provisions of the rules and regulations of the Commission.

Dated at Washington, DC, May 21, 2002.
Ivy L. Davis,
Chief, Regional Programs Coordination Unit.

[FR Doc. 02-13241 Filed 5-24-02; 8:45 am]

BILLING CODE 6335-01-P